OFFICE OF THE UNITED STATES TRADE REPRESENTATIVE

Trade Policy Staff Committee; Public Comments on Environmental Review of Proposed United States-Jordan Free Trade Agreement

ACTION: Notice of initiation of environmental review and request for comments on scope of review.

SUMMARY: This publication gives notice that pursuant to Executive Order 13141 (64 FR 63169) the Office of the U.S. Trade Representative (USTR), through the Trade Policy Staff Committee (TPSC), is initiating an environmental review of the proposed United States-Jordan free trade agreement notified in the Federal Register on June 15, 2000 (65 FR 37594). The TPSC is requesting written comments from the public on what should be included in the scope of the review, including the potential environmental effects that might flow from the free trade agreement and the potential implications for out environmental laws and regulations. Persons submitting written comments should provide as much detail as possible on the degree to which the subject matter they propose for inclusion in the review may raise significant environmental issues in the context of the negotiation. Jordan has indicated that it plans to perform its own environmental review of the free trade agreement, a process the U.S. Agency for International Development is prepared to support with technical assistance if requested by the government of Jordan.

DATES: Comments about the scope of the review should be submitted on or before July 17, 2000 to be assured of timely consideration.

FOR FURTHER INFORMATION: For procedural questions concerning public comments, contact Gloria Blue, Executive Secretary, TPSC, Office of the USTR, 600 17th Street, NW., Washington, DC 20508 (202) 395-3475. All other questions regarding the review should be addressed to Mary Latimer, Deputy Assistant US Trade Representative for Environment and Natural Resources, Office of the USTR (202) 395-7230 or Adam Shub, Director for Middle Eastern Affairs, Office of the USTR (202) 395-3320.

SUPPLEMENTARY INFORMATION: On June 6, 2000, President Clinton agreed with Jordan's King Abdullah II to negotiate a bilateral free trade agreement. In the negotiations, the United States and Jordan will seek to eliminate duties and commercial barriers to bilateral trade in U.S.- and Jordanian-origin goods and also expect to address trade in services, trade-related aspects of intellectual property rights, trade-related environmental and labor matters, and other issues. The TPSC requested written comments from the public to assist USTR in formulating negotiating objectives for the agreement in the Federal Register on June 15, 2000 (65 FR 37594).

USTR has requested that the U.S. International Trade Commission conduct a detailed study of the potential economic impacts of the free trade agreement on the United States. Two-way trade in goods between the United States and Jordan totaled $307 million in 1999, consisting of $276 million in U.S. exports to Jordan and $31 million in Jordanian exports to the United States. Jordan's top exports to the United States in 1999 were aircraft and aircraft parts sent to the United States for repair, jewelry made of precious metals, apparel including mens and boys suits, capets, and antiques over 100 years old. Top U.S. exports to Jordan in 1999 were wheat, aircraft parts, rice, and corn.

Written Comments

Persons submitting written comments should provide twenty (20) copies no later than noon July 17, 2000, to Gloria Blue at the address listed above. Written comments submitted in connection with this request, except for information granted “business confidential” status pursuant to 15 CFR 2003.6, will be available for public inspection in the USTR Reading Room (Room 101) at the address noted above. An appointment to review the file may be made by calling Brenda Webb at (202) 395-6186. The Reading Room is open to the public from 10 a.m. to 12 noon, and from 1 p.m. to 4 p.m. Monday through Friday.

Business confidential information will be subject to the requirements of 15 CFR 2003.6. Any business confidential material must be clearly marked as such on the cover letter or page and each succeeding page, and must be accompanied by a non-confidential summary thereof. If the submission contains business confidential information, twenty (20) copies of a public version that does not contain confidential information must be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

Carmen Suro-Bredie,
Chair, Trade Policy Staff Committee.

[FR Doc. 00-16341 Filed 6-27-00; 8:45 am]

BILLING CODE 3190-01-M